DEPARTMENT OF TRANSPORTATION

Federal Aviation Administration (FAA)

Notice of Availability of a Final Environmental Assessment (Final EA) and a Finding of No Significant Impact (FONSI)/Record of Decision (ROD) for the O'Hare International Airport World Gateway Program and Other Capital Improvement Projects at Chicago, IL

AGENCY: Federal Aviation Administration (FAA), DOT.

ACTION: Notice of availability.

SUMMARY: The Federal Aviation Administration (FAA) is issuing this notice to advise the public that the FAA has prepared, and approved on June 21, 2002, a Finding of No Significant Impact (FONSI)/Record of Decision (ROD) based on the Final Environmental Assessment (Final EA) for the World Gateway Program and Other Capital Improvement Projects at O'Hare International Airport. The City of Chicago Department of Aviation prepared the Final EA in accordance with the National Environmental Policy Act and the Federal Aviation Administration's (FAA) regulations and guidelines for environmental documents. The EA was reviewed and evaluated by FAA, and was accepted on June 21, 2002 as a Federal document by the FAA's Responsible Federal Official.

FOR FURTHER INFORMATION CONTACT: Prescott C. Snyder, Airports Environmental Program Manager, federal Aviation Administration, Chicago Airports District Office, Room 312, 2300 East Devon Avenue, Des Plaines, Illinois 60018. Mr. Snyder can be contacted at (847) 294-7538 (voice), (847) 294-7046 (facsimile) or by e-mail at 7-AGL-ORD-WGP-ENV@faa.gov.

SUPPLEMENTARY INFORMATION: The proposed World Gateway Program includes the development of two new passenger terminals, Terminals 4 and 6, the redevelopment of Terminal 2, and Terminal 3 Concourse K extension. As a result of these projects, several facilities must be relocated. These relocations are referred to as Enabling Projects. The EA also evaluates other projects unrelated to the World Gateway Program, the Enabling Projects, and the Independent Utility Projects are referred to as the Proposed Projects in the EA. More detailed descriptions of these Proposed Projects are provided below:

The World Gateway Program

Terminal 2 Redevelopment

Reconfiguration of terminal interior; Widening passenger corridor linking Terminals 1 and 2; Demolition and reconstruction of Concourses E and F; Installation of Federal Inspection Service (FIS) facilities; and Reconfiguration of aircraft parking apron.

Terminal 3, Concourse K Extension

Extension of Concourse K and Relocation of Taxiway A/B; Construction of new apron.

Terminal 4 Development

Construction of Terminal 4; Installation of FIS facilities; Enlargement and reconfiguration of apron.

Terminal 5 Reconfiguration

Modified to integrate with the proposed Terminal 6.

Terminal 6 Development

Construction of Terminal 6; Reconfiguration of apron; Extension of taxiway; Development of access road for Terminals 5 and 6; Construction of Terminal 6 parking garage; Realignment of Airport Transit System (ATS) line and construction of ATS station in Terminal 6.

Enabling Projects

• Delta Cargo Facility Relocation

• Lynxs Cargo Facility Relocation

• Sky Chefs Flight Kitchen Relocation

• heating and Refrigeration (H&R) Plant Support Facility Relocations

• Commonwealth Edison Switchyard D179 Relocation

Independent Utility Projects

• Public Parking Improvements

• Development of Consolidated Rental Car Facility/ATS Station

• Development of Rental Car Storage and Maintenance Lot

• ATS Storage and Maintenance Facility Relocation/Track Extension

• Development of Long-Term Parking ATS Station and Intermodal Connection

• Additional Fuel Tank Farm Development in Northwest Airfield

• Development of City Warehouse and Trades Building

• Eastside Collateral Development

• O'Hare Roadway Improvements

FAA has requested that the City of Chicago distribute the Final EA and FONSI/ROD to libraries near the Airport to enhance public access to the information. The Final EA and FONSI/ROD have been requested to be on reference through September 30, 2002. Copies of the World Gateway Program Final EA and FONSI/ROD are available for review at the following locations:

Arlington Heights memorial Library, 500 N. Dunton Ave., Arlington heights, IL 60004

Bensenville Public Library, 200 S. Church Rd., Bensenville, IL 60106

College of DuPage Library, 425 Fawell, Glen Ellyn, IL 60137

Des Plaines Public Library, 1501 Ellinwood St., Des Plaines, IL 60016

Eisenhower Public Library, 4652 N. Olcott Ave., Harwood Heights, IL 60706

Elk Grove Village Public Library, 1001 Wellington Ave., Elk Grove Village, IL 60007

Elmhurst Public Library, 211 Prospect Ave., Elmhurst, IL 60126

Franklin Park Public Library, 10311 Grand Ave., Franklin Park, IL 60131

Harold Washington Library, 400 south State St., 5th Floor, Chicago, IL 60605

Itasca Community Library, 500 W. Irving Park Rd., Itasca, IL 60143

Melrose Park Public Library, 801 Broadway St., Melrose Park, IL 60160

Mont Prospect Public Library, 10 S. Emerson St., Mount Prospect, IL 60056

Northlake Public Library, 231 N. Wolf Rd., Northlake, IL 60164

Oakton Community College Library, Des Plaines, IL 60016

Park Ridge Public Library, 20 S. Prospect Ave., Park Ridge, IL 60068

River Grove Public Library, 8638 Grand Ave., River Grove, IL 60171

Roselle Public Library, 40 S. Park St., Roselle, IL 60172

Schiller Park Public Library, 4200 Old River Rd., Schiller Park, IL 60176

Wood Dale Public Library, 520 N. Wood Dale Rd., Wood Dale, IL 60191

Issued in Des Plaines, Illinois on June 21, 2002.
Philip M. Smithmeyer,
Manager, Chicago Airports District Office, FAA, Great Lakes Region.

[FR Doc. 02-16387 Filed 6-29-02; 8:45 am]

BILLING CODE 4910-13-M